DEPARTMENT OF ENERGY

Federal Energy Regulatory Commission

[Docket No. CP89-738-003]

Interstate Power and Light Company; Notice of Application

December 6, 2006.

Take notice that on November 30, 2006, Interstate Power and Light Company (IPL), a wholly owned subsidiary of Alliant Energy Corporation, P.O. Box 351, 200 First Street, SE., Cedar Rapids, Iowa 52406-4533 filed with the Federal Energy Regulatory Commission an abbreviated application pursuant to section 7(f) of the Natural Gas Act (NGA), as amended, requesting an amended service area determination within which IPL may, without further Commission authorization, enlarge or expand its natural gas distribution facilities. IPL also requests: (i) A finding that IPL continues to qualifies as a local distribution company (LDC) for purposes of section 311 of the Natural Gas Policy Act of 1978 (NGPA); (ii) a waiver of the Commission's accounting and reporting requirements and other regulatory requirements ordinarily applicable to natural gas companies under the NGA and NGPA; and (iii) such further relief as the Commission may deem appropriate, all as more fully set forth in the application which is on file with the Commission and open to public inspection. The filing may also be viewed on the Commission's Web site at www.ferc.gov using the “eLibrary” link. Enter the docket number excluding the last three digits in the docket number field to access the document. For assistance, please contact FERC Online Support at FERCOnlineSupport@ferc.gov or toll free at (866) 208-3676, or for TTY, contact (202) 502-8659.

Any questions regarding the application should be directed to Jennifer Moore, Alliance Energy Corporate Services, Inc., P.O. Box 351, 200 First Street, SE., Cedar Rapids, Iowa 52406-0351, (telephone) (319) 786-4219, (fax) (319) 786-4533, jennifermoore@alliantenergy.com or Karol Lyn Newman or Matthew J. Agen, Morgan, Lewis and Bockius, LLP, 111 Pennsylvania Avenue, NW., Washington, DC 20004 (telephone) (202) 739-5257/5414, klnewman@morganlewis.com or magen@morganlewis.com.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests, and interventions via the internet in lieu of paper. See 18 CFR 385.2001(a)(1)(iii) and the instructions on the Commission's Web site (www.ferc.gov) under the “e-Filing” link.

Comment Date: 5 p.m. Eastern Time on December 16, 2006.

Magalie R. Salas,
Secretary.

[FR Doc. E6-21250 Filed 12-13-06; 8:45 am]

BILLING CODE 6717-01-P